DEPARTMENT OF TRANSPORTATION

Federal Aviation Administration

14 CFR Part 39

[Docket No. 99-NM-253-AD; Amendment 39-11720; AD 2000-09-11]

RIN 2120-AA64

Airworthiness Directives; Fokker Model F.28 Mark 0070 Series Airplanes

AGENCY: Federal Aviation Administration, DOT.

ACTION: Final rule; request for comments.

SUMMARY: This amendment adopts a new airworthiness directive (AD), applicable to certain Fokker Model F.28 Mark 0070 series airplanes. This action requires a one-time inspection to detect loose bolts attaching the gustlock counter-bracket to the pulley on the elevator tension regulator assembly, and corrective action, if necessary. This amendment is prompted by issuance of mandatory continuing airworthiness information by a foreign civil airworthiness authority. The actions specified in this AD are intended to prevent restricted elevator movement and consequent reduced controllability of the airplane.

DATES: Effective May 30, 2000.

The incorporation by reference of certain publications listed in the regulations is approved by the Director of the Federal Register as of May 30, 2000.

Comments for inclusion in the Rules Docket must be received on or before June 12, 2000.

ADDRESSES: Submit comments in triplicate to the Federal Aviation Administration (FAA), Transport Airplane Directorate, ANM-114, Attention: Rules Docket No. 99-NM-253-AD, 1601 Lind Avenue, SW., Renton, Washington 98055-4056.

The service information referenced in this AD may be obtained from Fokker Services B.V., P.O. Box 231, 2150 AE Nieuw-Vennep, the Netherlands. This information may be examined at the FAA, Transport Airplane Directorate, 1601 Lind Avenue, SW., Renton, Washington; or at the Office of the Federal Register, 800 North Capitol Street, NW., suite 700, Washington, DC.

FOR FURTHER INFORMATION CONTACT: Norman B. Martenson, Manager, International Branch, ANM-116, FAA, Transport Airplane Directorate, 1601 Lind Avenue, SW., Renton, Washington 98055-4056; telephone (425) 227-2110; fax (425) 227-1149.

SUPPLEMENTARY INFORMATION: The Rijksluchtvaartdienst (RLD), which is the airworthiness authority for the Netherlands, notified the FAA that an unsafe condition may exist on certain Fokker Model F.28 Mark 0070 series airplanes. The RLD advises that, during a routine landing of a Model F.28 Mark 0070 series airplane, the flight crew could not move the control column to its fully aft position. A subsequent inspection revealed that one of the three bolts attaching the gustlock counter-bracket to a pulley on the elevator tension regulator assembly became loose. The bolt had moved outwards slightly, obstructing the driving lever of the elevator and thus restricting the elevator deflection to 21 degrees (airplane nose up) instead of the normal 25 degrees. This condition, if not corrected, could result in reduced controllability of the airplane.

Explanation of Relevant Service Information

Fokker has issued Service Bulletin SBF100-27-076, dated July 1, 1999, which describes procedures for a one-time general visual inspection to detect discrepancies, and corrective action, if necessary. Discrepancies include improper installation, loose bolts, sealant damage or an insufficient amount of sealant, and incorrect torque values of the bolts or nuts. Corrective actions include removing the sealant (if present) from the bolt head and nut and checking the torque value of the bolt and nut; replacing any discrepant bolt, washer, or nut with a new component; ensuring specified torque values; and applying sealant to the bolt head and nut to prevent corrosion.

Accomplishment of the inspections and corrective actions specified in the service bulletin is intended to adequately address the identified unsafe condition. The RLD classified this service bulletin as mandatory and issued Dutch airworthiness directive 1999-094, dated July 30, 1999, in order to assure the continued airworthiness of these airplanes in the Netherlands.

FAA's Conclusions

This airplane model is manufactured in the Netherlands and is type certificated for operation in the United States under the provisions of section 21.29 of the Federal Aviation Regulations (14 CFR 21.29) and the applicable bilateral airworthiness agreement. Pursuant to this bilateral airworthiness agreement, the RLD has kept the FAA informed of the situation described above. The FAA has examined the findings of the RLD, reviewed all available information, and determined that AD action is necessary for products of this type design that are certificated for operation in the United States.

Explanation of Requirements of the Rule

Since an unsafe condition has been identified that is likely to exist or develop on other airplanes of the same type design registered in the United States, this AD is being issued to prevent restricted elevator movement and consequent reduced controllability of the airplane. This AD requires accomplishment of the actions specified in the service bulletin described previously, except as described below.

Differences Between the Proposed AD and the Service Bulletin

Operators should note that, although the effectivity listing in the Planning Information of the service bulletin specifies “Model F.28 Mark 0070/0100” series airplanes, the applicability statement of this proposed AD specifies only “Model F.28 Mark 0070 series airplanes.” The FAA has determined that none of the affected Model F.28 Mark 0100 series airplanes are currently eligible for import into the United States; therefore, no action is required for those airplanes by this AD. In addition, the FAA points out that only two of the airplanes listed in the service bulletin are included in this proposed AD because only serial numbers 11565 and 11569 are eligible for import into the United States; the other serial numbers listed in the service bulletin are not eligible for import into the United States.

Cost Impact

None of the Model F.28 Mark 0070 series airplanes affected by this action are on the U.S. Register. All airplanes included in the applicability of this rule currently are operated by non-U.S. operators under foreign registry; therefore, they are not directly affected by this AD action. However, the FAA considers that this rule is necessary to ensure that the unsafe condition is addressed in the event that any of these subject airplanes are imported and placed on the U.S. Register in the future.

Should an affected airplane be imported and placed on the U.S. Register in the future, it would require approximately 1 work hour to accomplish the required actions, at an average labor rate of $60 per work hour. Based on these figures, the cost impact of this AD on U.S. operators is estimated to be $60 per airplane.

Determination of Rule's Effective Date

Since this AD action does not affect any airplane that is currently on the U.S. register, it has no adverse economic impact and imposes no additional burden on any person. Therefore, prior notice and public procedures hereon are unnecessary and the amendment may be made effective in less than 30 days after publication in the Federal Register.

Comments Invited

Although this action is in the form of a final rule and was not preceded by notice and opportunity for public comment, comments are invited on this rule. Interested persons are invited to comment on this rule by submitting such written data, views, or arguments as they may desire. Communications shall identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their comments submitted in response to this rule must submit a self-addressed, stamped postcard on which the following statement is made: “Comments to Docket Number 99-NM-253-AD.” The postcard will be date stamped and returned to the commenter.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) Is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2000-09-11 Fokker Services B.V.: Amendment 39-11720. Docket 99-NM-253-AD.

Applicability: Model F.28 Mark 0070 airplanes, serial numbers 11565 and 11569; certificated in any category.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent restricted elevator movement and consequent reduced controllability of the airplane, accomplish the following:

Inspection

(a) Within 2 months after the effective date of this AD, perform a one-time general visual inspection of the elevator gustlock counter-bracket of the elevator tension regulator assembly to detect any discrepancy (including improper installation, loose bolts, sealant damage or an insufficient amount of sealant, and incorrect torque values of the bolts or nuts), in accordance with the Accomplishment Instructions of Fokker Service Bulletin SBF100-27-076, dated July 1, 1999.

(1) If no discrepancy is detected, no further action is required by this AD.

(2) If any discrepancy is detected, prior to further flight, accomplish the applicable corrective actions [removing the sealant (if present) from the bolt head and nut and checking the torque value of the bolt and nut; replacing any discrepant bolt, washer, or nut with a new component; ensuring specified torque values; and applying sealant to the bolt head and nut to prevent corrosion], in accordance with the service bulletin.

Note 2: For the purposes of this AD, a general visual inspection is defined as: “A visual examination of an interior or exterior area, installation, or assembly to detect obvious damage, failure, or irregularity. This level of inspection is made under normally available lighting conditions such as daylight, hangar lighting, flashlight, or drop-light, and may require removal or opening of access panels or doors. Stands, ladders, or platforms may be required to gain proximity to the area being checked.”

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 3: Information concerning the existence of approved alternative methods of compliance with this AD, if any, may be obtained from the International Branch, ANM-116.

Special Flight Permits

(c) Special flight permits may be issued in accordance with sections 21.197 and 21.199 of the Federal Aviation Regulations (14 CFR 21.197 and 21.199) to operate the airplane to a location where the requirements of this AD can be accomplished.

Incorporation by Reference

(d) The actions shall be done in accordance with Fokker Service Bulletin SBF100-27-076, dated July 1, 1999. This incorporation by reference was approved by the Director of the Federal Register in accordance with 5 U.S.C. 552(a) and 1 CFR part 51. Copies may be obtained from Fokker Services B.V., P.O. Box 231, 2150 AE Nieuw-Vennep, the Netherlands. Copies may be inspected at the FAA, Transport Airplane Directorate, 1601 Lind Avenue, SW., Renton, Washington; or at the Office of the Federal Register, 800 North Capitol Street, NW., suite 700, Washington, DC.

Note 4: The subject of this AD is addressed in Dutch airworthiness directive 1999-094, dated July 30, 1999.

(e) This amendment becomes effective on May 30, 2000.

Issued in Renton, Washington, on May 3, 2000.
Vi L. Lipski,
Acting Manager, Transport Airplane Directorate, Aircraft Certification Service.

[FR Doc. 00-11546 Filed 5-11-00; 8:45 am]

BILLING CODE 4910-13-U